DEPARTMENT OF THE TREASURY

Community Development Financial Institutions Fund: Proposed Collection; Comment Request

ACTION: Notice and request for comments.

SUMMARY: The Department of the Treasury, as part of its continuing effort to reduce paperwork and respondent burden, invites the general public and other Federal agencies to take this opportunity to comment on proposed and/or continuing information collections, as required by the Paperwork Reduction Act of 1995, Public Law 104-13 (44 U.S.C. 3506(c)(2)(A)). Currently, the Community Development Financial Institutions (CDFI) Fund, an office within the Department of the Treasury, is soliciting comments concerning data collection to support Native American Communities' Access to Capital and Credit Study (the Study). The CDFI Fund administers the Native Initiatives, which focuses on Native CDFIs, and intends to collect data regarding access to credit and capital in Native American, Native Hawaiian, and Alaskan Native communities (collectively referred to as “Native Communities”). The information collected will be used to identify specific subject matter and data to develop and write the Study.

Data collection and information gathering will be conducted in a manner to minimize burden and facilitate comments and interaction with the Native Communities and other experts. Data collection is expected to take place via online surveys, survey forms submitted electronically to the CDFI Fund, in-person and remote focus groups, tribal consultations, phone questionnaires, or similar methods. This will allow the Native Communities and other experts the opportunity to provide input on the specific topics that will be the root of the Study. The CDFI Fund anticipates publishing the results of these data collections, to the extent permissible by law.

DATES: Written comments should be received on or before March 29, 2013 to be assured of consideration.

ADDRESSES: Direct all comments to Amber Kuchar, Associate Program Manager, at the Community Development Financial Institutions Fund, U.S. Department of the Treasury, 1500 Pennsylvania Avenue NW., Washington, DC 20005, by email to cdfihelp@cdfi.treas.gov or by facsimile to 202-508-0041. Please note that this is not a toll free number.

FOR FURTHER INFORMATION CONTACT: An overview of the Native Initiatives may be found on the CDFI Fund's Web site at http://www.cdfifund.gov/. Requests for additional information should be directed to Amber Kuchar, Associate Program Manager, at the Community Development Financial Institutions Fund, U.S. Department of the Treasury, 1500 Pennsylvania Avenue NW., Washington, DC 20005, or call 202-653-0347. Please note that this is not a toll free number.

SUPPLEMENTARY INFORMATION:

Title: Native American Communities' Access to Capital and Credit Study (the Study).

OMB Number: TBD.

Abstract: Pursuant to the Community Development Banking and Financial Institutions Act of 1994, as amended (12 U.S.C. 4701 et seq.), the CDFI Fund provides training and technical assistance to CDFIs to enhance their ability to make loans and investments and provide services for the benefit of designated investment areas and targeted populations. Further, the CDFI Fund administers the Native Initiatives, which serve Native Communities. The information collected will be used to identify specific subject matter and data to develop and write the Study. The Study will update the 2001 Native American Lending Study conducted by the CDFI Fund, which resulted in the creation of the Native Initiatives. The requested information is necessary to support effective use of Federal resources.

Current Actions: Request for a new generic Information Collection Requests (ICR) approval.

Type of Review: Regular Review.

Affected Public: Certified CDFIs, entities seeking CDFI certification and similar entities.

Estimated Number of Respondents: 250.

Estimated Annual Time per Respondent: 1-30 hours with an average of 10 hours.

Estimated Total Annual Burden Hours: 2,500 hours.

Requests for Comments

Comments submitted in response to this notice will be summarized and/or included in the request for Office of Management and Budget approval. All comments will become a matter of public record and may be published on the CDFI Fund Web site at http://www.cdfifund.gov. Comments on the following subjects are invited: (a) Whether the collection of information is necessary for the proper performance of the functions of the CDFI Fund, including whether the information shall have practical utility; (b) the accuracy of the CDFI Fund's estimate of the burden of the collection of information; (c) ways to enhance the quality, utility, and clarity of the information to be collected; (d) ways to minimize the burden of the collection of information on respondents, including through the use of technology; and (e) estimates of capital or start-up costs and costs of operation, maintenance, and purchase of services to provide information.

Authority: 12 U.S.C. 1834a, 4703, 4703 note, 4713, 4717; 31 U.S.C. 321; 12 CFR part 1806.

Dated: January 17, 2013.
Donna J. Gambrell,
Director, Community Development Financial Institutions Fund.

[FR Doc. 2013-01652 Filed 1-25-13; 8:45 am]

BILLING CODE 4810-70-P